DEPARTMENT OF COMMERCE

National Oceanic and Atmospheric Administration

50 CFR Part 300

[Docket No. 240327-0090; RTID 0648-XE116]

Pacific Halibut Fisheries of the West Coast; 2024 Catch Sharing Plan; Inseason Action

AGENCY: National Marine Fisheries Service (NMFS), National Oceanic and Atmospheric Administration (NOAA), Commerce.

ACTION: Temporary rule; inseason adjustment; request for comments.

SUMMARY: NMFS announces inseason action for the Washington and Oregon subareas in the Pacific halibut recreational fishery in the International Pacific Halibut Commission's (IPHC) regulatory Area 2A. Specifically, this action announces additional fishing dates in August and September for the Washington subareas and in August through October for the Oregon Central Coast subarea. This action is intended to provide opportunity for anglers to achieve the catch limit in the Pacific Fishery Management Council's (Council) 2024 Pacific Halibut Catch Sharing Plan.

DATES:

Effective date: August 1, 2024 through September 30, 2024 for Washington and through October 31, 2024 for Oregon.

Comment date: Comments due on or before August 7, 2024.

ADDRESSES: Submit your comments, identified by NOAA-NMFS-2024-0014, by either of the following methods:

• Electronic Submission: Submit all electronic public comments via the Federal e-Rulemaking Portal. Go to https://www.regulations.gov and enter NOAA-NMFS-2024-0014 in the Search box. Click on the “Comment” icon, complete the required fields, and enter or attach your comments.

• Mail: Submit written comments to Jennifer Quan, Regional Administrator, c/o Melissa Mandrup, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov/. Background information and documents are available at the NOAA Fisheries website at https://www.fisheries.noaa.gov/action/2024-pacific-halibut-recreational-fishery and at the Council's website at https://www.pcouncil.org. Other comments received may be accessed through https://www.regulations.gov.

FOR FURTHER INFORMATION CONTACT: Melissa Mandrup, phone: 562-980-3231 or email: melissa.mandrup@noaa.gov.

SUPPLEMENTARY INFORMATION: On April 3, 2024, NMFS published a final rule approving changes to the Pacific halibut Area 2A Catch Sharing Plan (CSP) and implementing recreational (sport) management measures for the 2024 Area 2A recreational fisheries (89 FR 22966), as authorized by the Northern Pacific Halibut Act of 1982 (16 U.S.C. 773-773(k)). The Council's 2024 Catch Sharing Plan provides a recommended framework for NMFS' annual management measures and subarea allocations based on the 2024 Area 2A Pacific halibut catch limit, also known as the fishery constant exploitation yield (FCEY), of 1.47 million pounds (lb; 666.8 metric tons [mt]) set by the IPHC. The Area 2A FCEY and recreational fishery allocations were adopted by the IPHC and were published in the Federal Register on March 18, 2024 (89 FR 19275), after acceptance by the Secretary of State, with concurrence from the Secretary of Commerce, in accordance with 50 CFR 300.62. The Area 2A Pacific halibut management measures include recreational fishery season dates, bag limits, and subarea allocations.

Federal regulations at 50 CFR 300.63(c)(6), “Inseason Management for Recreational (Sport) Halibut Fisheries in Area 2A,” allow the NMFS Regional Administrator to modify annual regulations during the season. These inseason provisions allow the Regional Administrator to modify recreational (sport) fishing periods, bag limits, size limits, days per calendar week, and subarea allocations, if it is determined it is necessary to meet the allocation objectives and the action will not result in exceeding the catch limit.

NMFS has determined that, due to lower than expected landings in all Washington subareas, the Columbia River subarea, and the Oregon Central Coast subarea, inseason action to modify the 2024 Washington and Oregon recreational fishery seasons, i.e., days per calendar week, is warranted at this time to provide additional opportunity for fishery participants to achieve the Area 2A subarea allocations. As stated above, inseason modification of fishing season dates is authorized by Federal regulations at 50 CFR 300.63(c)(6) and the final rule (89 FR 22966, April 3, 3024). After consulting with the Washington Department of Fish and Wildlife (WDFW), the Oregon Department of Fish and Wildlife (ODFW), and other appropriate entities, NMFS determined that the following inseason action is necessary to meet the management objective of attaining the subarea allocations and is consistent with the inseason management provisions allowing for the modification of recreational fishing days per calendar week.

The final rule published on April 3, 2024 (89 FR 22966), approving the 2024 CSP and implementing recreational management measures for the 2024 Area 2A Pacific halibut fisheries, stated that, if sufficient Washington subarea allocation remains for at least another full day of fishing after June 30, NMFS may take inseason action to reopen the fishery in August, up to 7 days per week, through September. The re-opened area will close when there is not sufficient subarea allocation for another full day of fishing. Any inseason action, including closures, will be announced in accordance with Federal regulations at 50 CFR 300.63(c) and on the NMFS hotline at (206) 526-6667 or (800) 662-9825. Additionally, the 2024 CSP states that if an allocation is designated for the Oregon Central Coast subarea summer all-depth fishery, then it is to open the first Friday in August and continue until there is insufficient allocation for an additional day of fishing or October 31, whichever is earlier. The 2024 CSP also states that, if the entire remaining allocation for the Central Oregon Coast subarea is 60,000 lb or more after the first scheduled open period (i.e., August 1-3), and if determined to be appropriate through joint consultation between IPHC, NMFS, PFMC, and ODFW, the summer all-depth fishery will re-open every week on Friday and Saturday (and Thursday if there is enough allocation) and/or may open up to 7 days a week beginning September 1.

Notice of these additional dates are announced in accordance with Federal regulations at 50 CFR 300.63(c) and also on the NMFS hotline at (206) 526-6667 or (800) 662-9825. Weekly catch monitoring reports for the recreational fisheries in Washington and Oregon are available on their respective state Fish and Wildlife agency websites. NMFS will continue to monitor recreational catch obtained via state sampling procedures until NMFS has determined there is not sufficient allocation for another full day of fishing in the subareas off Washington and Oregon, and an area is closed by NMFS, or until the season closes on September 30 in Washington and the Columbia River subarea or October 31 in Oregon, whichever is earlier.

Inseason Action

Washington Puget Sound, North Coast, and South Coast Subareas

Description of the action: This inseason action implements additional fishing dates for the Washington Puget Sound, North Coast, and South Coast subareas during the 2024 recreational fishery. The Puget Sound and North Coast subarea will open 7 days per week, August 16 through September 30, or until there is not sufficient subarea allocation for another full day of fishing and the area is closed. The South Coast subarea will open August 22 through September 3 and September 5, 8, 10, 12, 15, 17, 19, 22, 24, 26, 29, or until there is not sufficient subarea allocation for another full day of fishing and the area is closed.

Reason for the action: The purpose of this inseason action is to provide additional opportunity for anglers in the Washington Puget Sound, North Coast, and South Coast subareas to achieve their remaining subarea allocations. Due to lower than expected landings from reduced angler effort, low initial catch rates, poor weather and ocean conditions, and smaller than anticipated halibut being caught (likely as a result of relatively young year-classes supporting the fishery), enough subarea allocation remains to add the additional dates. Using daily catch estimates through June 30, inseason projections for August and September suggest that much of the Washington subarea allocations would go unharvested without additional fishing dates.

The Washington Puget Sound subarea recreational fishery opened on April 4, 2024. Through June 30, anglers in the Puget Sound subarea have harvested 54,497 lb (24.7 mt) of the 81,729 lb (37.1 mt) allocation (67 percent), leaving 27,232 lb (12.4 mt) remaining (33 percent of the subarea allocation). The Washington North and South Coast subareas opened on May 2, 2024. Through June 30, anglers in the North Coast subarea have harvested 101,852 lb (46.2 mt) of the 132,366 lb (60.0 mt) allocation (77 percent), leaving 30,514 lb (13.8 mt) remaining (23 percent of the subarea allocation). Anglers in the South Coast subarea have harvested 51,085 lb (23.1 mt) of the 67,074 lb (30.4 mt) allocation (76 percent), leaving 15,989 lb (7.3 mt) remaining (24 percent of the subarea allocation).

After consulting with WDFW, it was determined that in order for anglers to have the opportunity to achieve the Washington subarea allocations, with little risk of the subareas or coastwide allocation being exceeded, additional fishing dates are warranted. Therefore, through this action, NMFS is announcing fishing dates in August and September that were not previously implemented in the final rule on April 3, 2024 (89 FR 22966).

Notice of these additional dates are announced in accordance with Federal regulations at 50 CFR 300.63(c) and also on the NMFS hotline at (206) 526-6667 or (800) 662-9825.

Columbia River Subarea

Description of the action: This inseason action implements additional fishing dates for the Columbia River subarea during the 2024 recreational fishery. The Columbia River subarea will open from August 22 through September 3 and September 5, 8, 10, 12, 15, 17, 19, 22, 24, 26, 29, or until there is not sufficient subarea allocation for another full day of fishing and the area is closed.

Reason for the action: The purpose of this inseason action is to provide additional opportunity for anglers in the Columbia River subarea to achieve the subarea allocation. NMFS has determined, for the same reasons stated above for the Washington subareas, that the Columbia River subarea allocation will go unharvested without additional fishing dates. The recreational fishery in this subarea opened on May 2, 2024. As of June 30, anglers in the Columbia River subarea have harvested 13,605 lb (6.2 mt) of the 11,112 lb (8.2 mt) allocation (75.1 percent), leaving 4,508 lb (2.0 mt) remaining (25 percent of the subarea allocation).

After consulting with WDFW and ODFW, it was determined that in order for anglers to have the opportunity to achieve the Columbia River subarea allocation, with little risk of the subarea or coastwide allocation being exceeded, additional fishing dates are warranted. Therefore, through this action, NMFS is announcing fishing dates in August and September that were not previously implemented in the final rule on April 3, 2024 (89 FR 22966).

Notice of these additional dates are announced in accordance with Federal regulations at 50 CFR 300.63(c) and also on the NMFS hotline at (206) 526-6667 or (800) 662-9825.

Oregon Central Coast Subarea

Description of the action: This inseason action opens additional fishing days in the Oregon Central Coast subarea. Specifically, this action opens the Oregon Central Coast subarea's summer all-depth fishery from 3 days every other week to 7 days a week from August 1 through October 31, 2024, or until there is not sufficient subarea allocation for another full day of fishing and the area is closed.

Reason for the action: The purpose of this inseason action is to provide additional opportunity for anglers in the Oregon Central Coast subarea by spreading angler effort throughout the week and allowing them to take advantage of optimal weather windows to better achieve the subarea allocation. NMFS has determined that due to lower than expected landings through July 7, and the expectation that a substantial amount of the Oregon combined allocation will go unharvested without additional fishing days, additional fishing days are warranted. The spring all-depth fishery in this subarea opened May 1, 2024. Catch estimates through July 7 in the Oregon Central Coast subarea's spring all-depth fishery indicate 119,136 lb (22 mt) of the 167,681 lb (76 mt) spring all-depth fishery allocation (71.1 percent) has been harvested, leaving 48,545 lb (22.0 mt) remaining (29.0 percent of the spring all-depth). Catch estimates through July 7 indicate, the Oregon Central Coast subarea remaining allocation is estimated to be 147,024 lb (66.7 mt; 55.2 percent of the subarea allocation). Any spring all-depth fishery allocation that remains after July 31 will be combined with the initial summer all-depth fishery allocation of 66,540 lb (30.2 mt). Based on an average of 12,571 lb landed per week in the spring all-depth fishery (2022-present), ODFW projects 10,381 lb (4.7 mt) to be remaining by the end of July to be combined with the initial summer all-depth fishery for a combined all-depth allocation of 77,370 lb (35.1 mt). The projected combined all-depth allocation plus the unused nearshore allocation totals a projected allocation of 109,309 lb (49.6 mt) of Pacific halibut available for recreational anglers in the Oregon Central Coast subarea. Additionally, ODFW reported to NMFS that the average weight of individual halibut caught by anglers in the Central Oregon Coast subarea spring all-depth season in 2024 is 13.9 lb (0.0063 mt), as compared to 16.0 lb (0.0073 mt) in 2023, 15.2 lb (0.069 mt) in 2022 and 14.2 lb (0.0064 mt) in 2021. During pre-season planning, projections used to develop the Oregon Central Coast's season structure were based on the average weight for individual halibut caught by anglers being similar to that of what was observed in 2023, and in anticipation of larger fish from the 2012-year class recruiting to the fishery. However, results from sampling efforts, to date, indicate that there has been an approximately 13 percent reduction in average weight for individual halibut caught in 2024 compared to average weight caught in 2023, possibly due to a younger year class recruiting to the fishery. Further, it was reported by ODFW that the Oregon Central Coast experienced stronger spring winds in 2024 compared to 2023, which limited the number of days anglers were able to fish for Pacific halibut offshore. These two factors, low average weight of halibut and poor weather conditions, likely have contributed to the lower catches seen in the Oregon Central Coast subarea.

After consulting with ODFW, it was determined that in order for anglers to have the opportunity to achieve the overall Oregon Central Coast subarea allocation, with little risk of the subarea or coastwide allocation being exceeded, additional fishing dates are warranted. Therefore, through this action, NMFS is announcing fishing dates in July, August, September, and October that were not previously implemented in the final rule on April 3, 2024 (89 FR 22966).

Notice of these additional dates are announced in accordance with Federal regulations at 50 CFR 300.63(c) and also on the NMFS hotline at (206) 526-6667 or (800) 662-9825.

Classification

NMFS issues this action pursuant to the Northern Pacific Halibut Act of 1982. This action is taken under the regulatory authority at 50 CFR 300.63(c)(6), and is exempt from review under Executive Order 12866.

Pursuant to 5 U.S.C. 553(b)(3)(B), there is good cause to waive prior notice and an opportunity for public comment on this action, as notice and comment would be impracticable and contrary to the public interest. WDFW provided updated landings data to NMFS on July 9, 2024, showing that through June 30, fishery participants in the recreational fishery off of Washington had caught only 67 percent of the Puget Sound subarea allocation, 77 percent of the North Coast subarea allocation, and 76 percent of the South Coast subarea allocation; fishery participants in the Columbia River subarea had caught only 75 percent of the subarea allocation. On July 12, 2024, ODFW provided updated landings data to NMF, showing that through July 7, fishery participants in the recreational fishery off Oregon had caught only 44.8 percent of Central Coast subarea allocation. NMFS uses fishing rates from previous years to determine the number of recreational fishing dates needed to attain subarea allocations. Given the lower than expected catch rates in the Washington Puget Sound, North Coast, and South Coast subareas; the Columbia River subarea; and the Oregon Central Coast subarea, additional fishing dates are considered necessary to increase angler opportunity to reach the overall Washington and Oregon subarea allocations. This action should be implemented as soon as possible to allow fishery participants to take advantage of the additional season dates. As the fisheries close on September 30, 2024 in the Washington and Columbia River subareas, and on October 31, 2024 in the Oregon subareas, implementing this action through proposed and final rulemaking would undermine the benefit this action would provide to fishery participants. Without implementation of additional season dates in the Washington Puget Sound, North Coast, and South Coast subareas, the Columbia River subarea, and the Oregon Central Coast subarea, the overall Washington and Oregon allocations are unlikely to be harvested, thus limiting the economic benefits to the fishery participants and obstructing the goals of the 2024 Catch Sharing Plan. It is necessary that this rulemaking be implemented in a timely manner so that planning for additional season dates can take place, and to allow for business and personal decision making by the regulated public impacted by this action, which includes recreational charter fishing operations, associated port businesses, and private anglers who do not live near the coastal access points for this fishery, among others. To ensure the regulated public is fully aware of this action, notice of this regulatory action will be provided to anglers through a telephone hotline, news release, and by the relevant state Fish and Wildlife agencies. NMFS will receive public comments for 15 days after publication of this action, in accordance with 50 CFR 300.63(c)(6)(iv). No aspect of this action is controversial, and changes of this nature were anticipated in the process described in regulations at 50 CFR 300.63(c).

For the reasons discussed above, there is also good cause under 5 U.S.C. 553(d)(3) to waive the 30-day delay in effective date and make this action effective immediately upon filing for public inspection, as a delay in effectiveness of this action would constrain fishing opportunity and be inconsistent with the goals of the 2024 Catch Sharing Plan, as well as potentially limit the economic opportunity intended by this rule to the associated fishing communities. This inseason action is not expected to result in exceeding the allocation for these subareas. NMFS regulations allow the Regional Administrator to modify sport fishing periods, bag limits, size limits, days per calendar week, and subarea allocations, provided that the action allows allocation objectives to be met and will not result in exceeding the catch limit for the subarea. NMFS recently received information on the progress of landings in the recreational fisheries in Washington and Oregon subareas, indicating additional season dates for Washington and Oregon should be implemented in the fishery to ensure optimal harvest of the subarea allocations. As stated above, it is in the public interest that this action is not delayed, because a delay in the effectiveness of these new dates would not allow the allocation objectives of the recreational Pacific halibut fishery to be met.

Authority: 16 U.S.C. 773-773k.

Dated: July 18, 2024.
Lindsay Fullenkamp,
Acting Director, Office of Sustainable Fisheries, National Marine Fisheries Service.

[FR Doc. 2024-16151 Filed 7-22-24; 8:45 am]

BILLING CODE 3510-22-P